DEPARTMENT OF JUSTICE

[OMB Number 1110-NEW]

Agency Information Collection Activities; Proposed eCollection eComments Requested; Approval for New Collection; FBI National Academy: United States Holocaust Memorial's Law Enforcement and Society Questionnaire

AGENCY: Federal Bureau of Investigation, Department of Justice.

ACTION: 60-day notice.

SUMMARY: The Department of Justice (DOJ), Federal Bureau of Investigation (FBI), Training Division's Curriculum Management Section (CMS) has submitted the following information collection request to the Office of Management and Budget (OMB) for review and approval in accordance with the Paperwork Reduction Act of 1995. The proposed information collection is published to obtain comments from the public and affected agencies.

DATES: Comments are encouraged and will be accepted for 60 days until June 1, 2015.

FOR FURTHER INFORMATION CONTACT: If you have additional comments especially on the estimated public burden or associated response time, suggestions, or need a copy of the proposed information collection instrument with instructions or additional information, please contact Keith Shirley, Unit Chief, Evaluation and Assessment Unit, Training Division, FBI Academy, Federal Bureau of Investigation, Quantico, Virginia 22135, (phone 703-632-3025).

SUPPLEMENTARY INFORMATION: Written comments and suggestions from the public and affected agencies concerning the proposed collection of information are encouraged. Your comments should address one or more of the following four points:

—Evaluate whether the proposed collection of information is necessary for the proper performance of the functions of the Federal Bureau of Investiagtion, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1 Type of Information Collection: Approval of a New Collection.

2 The Title of the Form/Collection: FBI National Academy: United States Holocaust Museum's Law Enforcement and Society Questionnaire.

3 The agency form number, if any, and the applicable component of the Department sponsoring the collection: None given.

4 Affected public who will be asked or required to respond, as well as a brief abstract: Primary: FBI National Academy students that represent state and local police and sheriffs' departments, military police organizations, and federal law enforcement agencies from the United States and over 150 foreign nations. Brief Abstract: This collection is requested by FBI National Academy on behalf of the United States Holocaust Memorial Museum (USHMM). As part of the FBI National Academy's 10-week training, law enforcement professionals attend a guided tour at the United States Holocaust Memorial Museum lead by the Law Enforcement and Society program (LEAS). The purpose of the tour is to allow law enforcement officers to examine the role of the law enforcement profession and how it played in the Holocaust.

The purpose of the proposed data collection is to gather feedback from FBI National Academy students about their experience with LEAS during the tour. The results will help determine if the LEAS program is meeting its goals and objectives to better serve future law enforcement professionals participating in the FBI National Academy. In addition, the proposed data collection will be used to ensure the presentations and educational material is current and applicable.

5 An estimate of the total number of respondents and the amount of time estimated for an average respondent to respond: Approximately 1,000 FBI National Academy students per year will receive the questionnaire, and the average time to complete will be about 15 minutes. (The number of students is based on appropriate number of students from fiscal years 2012 -2013). Though we would like a 100% response rate, we anticipate a 75% response rate of those surveyed (or 750); with 25% of the students not responding to the questionnaire.

6 An estimate of the total public burden (in hours) associated with the collection: Given that the approximately 75% of those surveyed (or 750) will respond, the total public burden for completing the questionnaire is 187 hours.

If additional information is required contact: Jerri Murray, Department Clearance Officer, United States Department of Justice, Justice Management Division, Policy and Planning Staff, Two Constitution Square, 145 N Street NE., 3E.405B, Washington, DC 20530.

Dated: March 30, 2015.
Jerri Murray,
Department Clearance Officer for PRA, U.S. Department of Justice.

[FR Doc. 2015-07554 Filed 4-1-15; 8:45 am]

BILLING CODE CODE 4410-02-P